DEPARTMENT OF ENERGY

Federal Energy Regulatory Commission

[Docket No. EG03-35-000, et al.]

AEG Operations. LLC., et al.; Electric Rate and Corporate Filings

January 16, 2003

The following filings have been made with the Commission. The filings are listed in ascending order within each docket classification.

1. AEG Operations, LLC

[Docket No. EG03-35-000]

Take notice that on January 10, 2003, AEG Operations, LLC (AEG Operations) filed with the Federal Energy Regulatory Commission an application for determination of exempt wholesale generator status pursuant to part 365 of the Commission's regulations.

AEG Operations will operate and maintain the electric generating facility (the Facility) owned and currently operated by Mirant Neenah, LLC (Mirant Neenah). The Facility's entire output currently is sold on a long-term basis to a third party not affiliated with the Applicant. The Mirant Neenah Facility is located at Neenah, Wisconsin, and comprises two gas-fired turbine generators rated at 309 MW total generating capacity. AEG Operations' principal business offices are located at One Mid-America Plaza, Suite 518, Oakbrook Terrace, Illinois, 60181-4705.

Comment Date: February 6, 2003.

2. PacifiCorp

[Docket No. ER03-410-000]

Take notice that on January 14, 2003, PacifiCorp, tendered for filing in accordance with 18 CFR 35 of the Commission's Rules and Regulations Amendment No. 2 to the Power Marketing and Resource Management Service Agreement with Deseret Generation & Transmission Co-Operative.

PacifiCorp states that copies of this filing were supplied to the Utah Public Service Commission and the Public Utility Commission of Oregon.

Comment Date: February 4, 2003.

3. Arizona Public Service Company, El Paso Electric Company, Public Service Company of New Mexico, and Southern California Edison Company; Filing of Funding Agreement

[Docket No. ER03-411-000]

Take notice that on January 14, 2003, Arizona Public Service Company, El Paso Electric Company, Public Service Company of New Mexico, and Southern California Edison Company tendered for filing a Funding Agreement for the design, engineering and construction services associated with the facilities necessary to interconnect the Rudd Transmission Line to the ANPP High Voltage Switchyard between the Rudd Line Participants and Salt River Project Agricultural Improvement and Power District, as Operating Agent for the ANPP Switchyard Participants.

Comment Date: February 4, 2003.

4. Florida Power & Light Company

[Docket No. ER03-412-000]

Take notice that on January 14, 2003 Florida Power & Light Company (FPL) tendered for filing a Notice of Termination of an Interconnection & Operation Agreement (IOA) between FPL and Duke Energy Fort Pierce, LLC (Duke Energy). Termination of the IOA has been mutually agreed to by FPL and Duke Energy. FPL requests that the termination be made effective December 23, 2002.

Comment Date: February 4, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-1620 Filed 1-23-03; 8:45 am]

BILLING CODE 6717-01-P